DEPARTMENT OF THE INTERIOR

Bureau of Land Management

[ID-077-2822-JL-G212]

Notice of Closure to Livestock Grazing Use

AGENCY: Bureau of Land Management, Interior.

ACTION: Notice of closure to livestock grazing use.

SUMMARY: Effective immediately, the North Emery Allotment (#04100), Shoulder 3 Inc. Allotment (#04103), and the Baker Allotment (#04104) with the exception of Panel 1 and Panel 4, are closed to livestock grazing. This closure will remain in effect until May 1, 2003.

This closure is a direct result of two wildfires, which burned these areas during the summer of 2000, and of the subsequent rehabilitation efforts of the BLM. The closure will promote the reestablishment of vegetation on this site and improve the potential for recovery of wildlife and livestock forage.

This notice will also inform the public and permittees that any unauthorized livestock grazing upon public land or other lands under the BLM's control is in violation of 43 CFR 4140.1(b)(1) [Acts prohibited on public lands] and is subject to administrative actions described in 43 CFR Subpart 4150 (Unauthorized Grazing Use).

SUPPLEMENTARY INFORMATION: The area of closure affected by this notice is the Shoulder 3 Inc. Allotment, the North Emery Allotment, and sections of the Baker Allotment within the Upper Snake River District, and is more specifically described wholly or partially as follows:

Boise Meridian, Idaho

T. 15 S., R. 21 E.,

Public Lands Administered by BLM within Sections 22, 26, 27, 34, 35

T. 16 S., R. 21 E.,

Public Lands Administered by BLM within Sections 1, 2, 3, 10, 11, 12, 14, 15, 21, 22, 28.

Detailed maps of the area closed to livestock grazing are available at the BLM Burley Field Office.

FOR FURTHER INFORMATION CONTACT: BLM Burley Field Office, 15 East 200 South, Burley, Idaho 83318. Telephone (208) 677-6641.

Dated: March 1, 2001.
Theresa Hanley,
Burley Field Manager.

[FR Doc. 01-12409 Filed 5-16-01; 8:45 am]

BILLING CODE 4310-GG-P